DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[4/3/2013 through 4/15/2013]
Firm name | Firm address | Date accepted for investigation | Product(s)
PrintFlex Graphics, Inc | 2201 January Avenue, St. Louis, MO 63110 | 4/3/2013 | The firm manufactures promotional paper products, instant redemption coupons, booklets, stickers and labels.
AD Hawk, Inc. d/b/a Amrak Enterprises | 3515 Airway Drive Suite 206, Reno, NV 89511 | 4/3/2013 | The firm manufacturers valve components and other machined components and sub assemblies.
Habitata Building Products, LLC d/b/a Halcyon Shades | 1600 S. 39th St, St. Louis, MO 63110 | 4/9/2013 | The firm manufacturers solar shades for windows.
Creative Candles, LLC | 3218 Roanoke Road, Kansas City, MO 64111 | 4/9/2013 | The firm manufacturers candles and accessories.
Irrigation Accessories Company | 12410 NE 95th Street, Vancouver, WA 98682 | 4/12/2013 | The firm manufactuers irrigation accessories.
ChannelLock, Inc | 1306 South Main Street, Meadville, PA 16335 | 4/3/2013 | The firm manufactures pliers and hand tools.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: April 15, 2013.
Michael S. DeVillo,
Eligibility Examiner.

[FR Doc. 2013-09211 Filed 4-18-13; 8:45 am]

BILLING CODE 3510-WH-P